DEPARTMENT OF DEFENSE

Department of the Army

[Docket ID: USA-2008-0016]

Privacy Act of 1974; System of Records

AGENCY: Department of the Army, DoD.

ACTION: Notice to amend a system of records.

SUMMARY: The Department of the Army is proposing to amend a system of records notice in its existing inventory of records systems subject to the Privacy Act of 1974 (5 U.S.C. 552a), as amended.

DATES: This proposed action will be effective without further notice on August 6, 2008 unless comments are received which result in a contrary determination.

ADDRESSES: Department of the Army, Freedom of Information/Privacy Division, U.S. Army Records Management and Declassification Agency, ATTN: AHRC-PDD-FPZ, 7701 Telegraph Road, Casey Building, Suite 144, Alexandria, VA 22325-3905.

FOR FURTHER INFORMATION CONTACT: Mr. Robert Dickerson, (703) 428-6513.

SUPPLEMENTARY INFORMATION: The Department of the Army systems of records notices subject to the Privacy Act of 1974 (5 U.S.C. 552a), as amended, have been published in the Federal Register and are available from the address above.

The specific changes to the records systems being amended are set forth below followed by the notices, as amended, published in their entirety. The proposed amendments are not within the purview of subsection (r) of the Privacy Act of 1974 (5 U.S.C. 552a), as amended, which requires the submission of a new or altered system report.

Dated: June 30, 2008.
Patricia L. Toppings,
OSD Federal Register Liaison Officer, Department of Defense.

A0095-2d TRADOC-ATC

System name:

Individual Flight Records Folder (September 6, 2000, 65 FR 53989).

Changes:

* * * * *

System name:

Delete entry and replace with “Air Traffic Controller/Air Traffic Control Maintenance Technician Records.”

System location:

Delete entry of second paragraph and replace with “Segments are located at Army Air Traffic Control facilities (airfields, stagefields, and heliports) and other aviation units requiring Air Traffic Controller and Air Traffic Control Maintenance Technician personnel. Official mailing addresses are published as an appendix to the Army's compilation of record systems notices.”

* * * * *

Categories of records in the system:

Delete entry and replace with “Name, Social Security Number (SSN), Air Traffic Controller and Air Traffic Control Maintenance Technician qualifications and certifications, training/proficiency data and ratings, date assigned to current facility, and similar relevant documents.”

Authority for maintenance of the system:

10 U.S.C. 3013, Secretary of the Army; 49 U.S.C. 313-1421, Transportation; Federal Aviation Act of 1958, as amended; and E.O. 9397 (SSN).

* * * * *

Storage:

Paper records in file folders and/or cards and electronic storage media.

* * * * *

Safeguards:

Delete entry and replace with “Records are maintained in secure areas available only to designated persons having official need for the record. Automated systems employ computer hardware/software safeguard features and controls.”

Retention and disposal:

Delete entry and replace with “Destroy records in 75 years.”

System manager(s) and address:

Delete entry and replace with “Commander, U.S. Army Aviation Warfighting Center, ATTN: ATZQ-IS, Fort Rucker, AL 36362-5000.”

Notification procedure:

Delete entry and replace with “Individuals seeking to determine whether information about themselves is contained in this system of records should address written inquiries to the Air Traffic Control facility where assigned or Commander, Air Traffic Services Command, ATTN: AFATS-CS-A, Fort Rucker, AL 36362-5000.

Individual should provide the full name, Social Security Number (SSN), details which will facilitate locating the records, current address and signature.”

Record access procedures:

Delete entry and replace with “Individuals seeking access to records about themselves contained in this record system should address written inquiries to the Air Traffic Control facility where assigned or Commander, Air Traffic Services Command, ATTN: AFATS-CS-A, Fort Rucker, AL 36362-5000.

Individual should provide the full name, Social Security Number, details which will help locate the records, current address, and signature.”

* * * * *

A0095-2d TRADOC-ATC

System name:

Air Traffic Controller/Air Traffic Control Maintenance Technician Records.

System location:

Primary location: U.S. Army Aviation Center, Fort Rucker, AL 36362-5000.

Segments are located at Army Air Traffic Control facilities (airfields, stagefields, and heliports) and other aviation units requiring Air Traffic Controller and Air Traffic Control Maintenance Technician personnel. Official mailing addresses are published as an appendix to the Army's compilation of record systems notices.

Categories of individuals covered by the system:

Air Traffic Controllers and Air Traffic Control Maintenance Technicians employed by the Department of the Army.

Categories of records in the system:

Name, Social Security Number (SSN), date of birth, Air Traffic Controller and Air Traffic Control Maintenance Technician qualifications and certifications, training/proficiency data and ratings, date assigned to current facility, and similar relevant documents.

Authority for maintenance of the system:

10 U.S.C.3013, Secretary of the Army; 49 U.S.C. 313-1421, Transportation; Federal Aviation Act of 1958, as amended; and E.O. 9397 (SSN).

Purpose(s):

To determine proficiency of Air Traffic Controllers and Air Traffic Control Maintenance Technicians and the reliability of the Air Traffic Control system operations within the Department of the Army.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to the Federal Aviation Administration, the National Transportation Safety Board, and similar authorities in connection with aircraft accidents, incidents, or traffic violations.

The ‘Blanket Routine Uses’ set forth at the beginning of the Army's compilation of system of record notices also apply to this record system.

Policies and practices for storing, retrieving, accessing, retaining, and disposing of records in the system:

Storage:

Paper records in file folders and/or cards and electronic storage media.

Retrievability:

Manually by individual surname; automated records are retrieved by name, plus any numeric identifier such as date of birth, Social Security Number (SSN), or Army serial number.

Safeguards:

Records are maintained in secure areas available only to designated persons having official need for the record. Automated systems employ computer hardware/software safeguard features and controls.

Retention and disposal:

Destroy records in 75 years.

System manager(s) and address:

Commander, U.S. Army Aviation Warfighting Center, ATTN: ATZQ-IS, Fort Rucker, AL 36362-5000.

Notification procedure:

Individuals seeking to determine whether information about themselves is contained in this system of records should address written inquiries to the Air Traffic Control facility where assigned or Commander, Air Traffic Services Command, ATTN: AFATS-CS-A, Fort Rucker, AL 36362-5000.

Individual should provide the full name, Social Security Number (SSN), details which will facilitate locating the records, current address and signature.

Record access procedures:

Individuals seeking access to records about themselves contained in this record system should address written inquiries to the Air Traffic Control facility where assigned or Commander, Air Traffic Services Command, ATTN: AFATS-CS-A, Fort Rucker, AL 36362-5000.

Individual should provide the full name, Social Security Number (SSN), details which will help locate the records, current address, and signature.

Contesting record procedures:

The Army's rules for accessing records, contesting contents, and appealing initial determinations are contained in Army Regulation 340-21; 32 CFR part 505; or may be obtained from the system manager.

Record source categories:

From the individual, individual's supervisor, Army or Federal Aviation Administration physicians, Air Traffic Control Facility Personnel Status Reports (DA Form 3479-6-R), and Air Traffic Control Maintenance Personnel Certification Record.

Exemptions claimed for the system:

None.

[FR Doc. E8-15257 Filed 7-3-08; 8:45 am]

BILLING CODE 5001-06-P